DEPARTMENT OF TRANSPORTATION

Federal Railroad Administration

Environmental Impact Statement for Improvements To Enhance the Capacity and Improve the Operation of the Portal Bridge, a Rail Crossing Over the Hackensack River Along the Northeast Corridor Between Kearny, NJ and Secaucus, NJ

AGENCY: Federal Railroad Administration (FRA), U.S. Department of Transportation (DOT).

ACTION: Notice of intent to prepare an Environmental Impact Statement.

SUMMARY: FRA is issuing this notice to advise the public that it will jointly prepare an environmental impact statement (EIS) with the New Jersey Transit Corporation (NJ TRANSIT) and in cooperation with the National Railroad Passenger Corporation (AMTRAK), to study improvements to enhance the capacity and improve the operation of the Portal Bridge, a two-track moveable swing-span bridge crossing over the Hackensack River along AMTRAK's Northeast Corridor rail line. AMTRAK and NJ TRANSIT are proposing to enhance the capacity and improve the operation of the Portal Bridge.

FRA is issuing this notice to solicit public and agency input into the development of the scope of the EIS and to advise the public that outreach activities conducted by NJ TRANSIT and its representatives will be considered in the preparation of the EIS. The Federal Transit Administration (FTA) is a cooperating agency for the environmental review. FTA will contribute information for which it has special expertise and ensure the EIS is prepared in compliance with its environmental regulations. The EIS will be prepared in accordance with the National Environmental Policy Act (NEPA; 42 U.S.C. 4321 et seq.) of 1969 and the applicable regulations implementing NEPA as set forth in 64 FR 28545 (May 26, 1999) and 23 CFR part 771. The EIS will also address as necessary Section 106 of the National Historic Preservation Act, Section 4(f) of the U.S. Department of Transportation Act of 1966 (49 U.S.C. 303) (DOT Act) and other applicable Federal, and State laws and regulations.

The EIS will evaluate a “No Action Alternative” along with various build alternatives which could retain, replace, or modify the existing Portal Bridge. Alternatives proposing to retain the existing bridge would include the rehabilitation of the existing structure to a state of good repair, along with the construction of an additional bridge for added capacity. The new bridge could be either a moveable or a fixed bridge and its height above mean high water (MHW) would vary accordingly. The new structure may consist of a two- or three-track bridge. Alternatives proposing to replace the existing bridge would require the construction of two new bridges of varying heights, types, and number of tracks. The two new bridges could be built on new parallel alignments, or one new bridge could be built on the existing bridge alignment by use of a staged approach. Each of these new bridges would have two or three new tracks. Alternatives proposing to modify the existing bridge would entail rehabilitation and raising of the existing bridge to a new height. The existing bridge may be fixed in place or may remain moveable, depending on the proposed height above MHW. A new bridge could also be constructed on a different alignment.

DATES: A scoping meeting will be held on January 17, 2007 in the Newark Public Library, Centennial Hall, 2nd Floor, 5 Washington Street, Newark, NJ, 07101, (973) 733-7800, from 4 to 8 p.m. To ensure that all significant issues are identified and considered, a formal presentation will be made at 4:30 and 6 p.m. followed by the opportunity for the public to comment on the scope of the EIS. Those wishing to speak are required to register at the meeting location. At the meeting, comments may also be submitted in written form, or orally one-on-one to a stenographer.

Persons interested in providing written comments on the scope of the EIS should do so by January 31, 2007. Written comments sent should be sent by mail to persons identified below.

FOR FURTHER INFORMATION CONTACT: For further information regarding the environmental review, please contact: Mr. John Wilkins, Director, Capital Planning, The New Jersey Transit Corporation, One Penn Plaza East, Newark, NJ 07105-2246, telephone (973) 491-7846, or Mr. David Valenstein, Environmental Program Manager, Federal Railroad Administration, 1120 Vermont Avenue, NW., Mail Stop 20, Washington DC 20590, telephone (202) 493-6368. Information and documents regarding the environmental review process will be also made available through appropriate means, including the project Web site: http://www.portalbridgenec.com.

SUPPLEMENTARY INFORMATION:

I. Description of Project Area

AMTRAK owns and operates the Northeast Corridor rail line from Pennsylvania Station New York to Union Station in Washington DC, including the heavily used “High Line” portion connecting Newark, NJ and New York, NY across the Portal Bridge. NJ TRANSIT's Northeast Corridor Line operates over AMTRAK's Northeast Corridor in portions of Pennsylvania and in New Jersey from Trenton to New York's Pennsylvania Station. NJ TRANSIT's North Jersey Coast Line, certain Montclair-Boonton Line trains, and certain Morris & Essex Line trains join AMTRAK's Northeast Corridor west of the Hackensack River utilize the Portal Bridge and subsequently travel under the Hudson River to their terminus at New York's Pennsylvania Station.

NJ TRANSIT's commuter rail system ridership has been growing and will continue to grow due to population growth in communities throughout New Jersey, Orange and Rockland Counties in New York, and portions of Pennsylvania. NJ TRANSIT operates 20 trains during the peak morning hour over the Portal Bridge that serve approximately 17,700 passengers. AMTRAK currently operates approximately 48 scheduled trains in each direction over this segment of the Northeast Corridor every weekday, including 15 time-sensitive premium Acela Express trains. While Portal Bridge is clearly a vital river crossing, the capacity constraints and problems caused by the existing Portal Bridge decrease schedule reliability for both AMTRAK and NJ TRANSIT customers.

Over the past few decades, improvements to the Northeast Corridor's infrastructure have greatly enhanced rail operations for AMTRAK and NJ TRANSIT. The Portal Bridge is an essential yet weak link along the Northeast Corridor. Planned projects intended to meet future transportation demands will place additional importance on a reliable and efficient Hackensack River crossing. The FTA and NJ TRANSIT, in partnership with the Port Authority of New York and New Jersey are currently preparing an EIS for the Access to the Region's Core (ARC) project. The ARC EIS will evaluate a new two-track tunnel under the Hudson River, a new rail terminal in Manhattan adjacent to the existing Penn Station, and new track capacity on the Northeast Corridor. While the proposed operating plan for ARC could be achieved using alternate routes, the locally preferred alternative results in a total of 37 NJ TRANSIT and AMTRAK trains operating over an enhanced Portal Bridge in the AM peak hour. Currently, 23 trains operate over Portal Bridge in the AM peak hour. The ARC as well as other planned projects would therefore increase the need for Portal Bridge improvements.

II. Problem Identification

The existing Portal Bridge was constructed in 1910 and is a two-track, moveable swing-span bridge that crosses the Hackensack River in New Jersey between the City of Kearny and the City of Secaucus. The Northeast Corridor has two tracks over the Portal Bridge and between Swift Interlocking and Secaucus Junction, which creates two bottlenecks. Trains must merge from four tracks to two tracks at Swift Interlocking, and from four tracks to two tracks at Secaucus Junction. Because multiple rail lines are merging onto a two-track crossing, the window of opportunity for each train is reduced. This operational inflexibility means that a delay on one rail line can cascade to other rail lines. Portal Bridge is a critical infrastructure element for both AMTRAK and NJ TRANSIT, enabling movement between east-of-Hudson and west-of-Hudson destinations, however the existing bridge, poses safety concerns, capacity constraints, and operational inflexibility.

The Portal Bridge was constructed nearly a century ago. Design standards for steel railroad bridges anticipate a typical lifespan of 100 years. Given the Portal Bridge's age, the structure is nearing the end of its useful life. Portal Bridge presents a considerable ongoing operation and maintenance expense for AMTRAK because the mechanical and structural components are prone to failure due to age and wear and because swing bridges are the most complicated movable rail bridge type. Special rail connections, known as miter rails, allow the rails to disengage and the bridge to swing open and closed. These connections are automatically controlled mechanical separations in the track that move apart for the swing span to open and then are realigned after it is closed. Mechanical wedges must lock the bridge when in the closed position and special mechanical electric power catenery joints must separate or rejoin the continuous contact wire on either end of the bridge for each movement. As a result of these features, while trains can operate at 90 miles per hour (mph) on adjacent portions of the Northeast Corridor, speeds over the Portal Bridge are restricted to 70 mph. The Hackensack River is a navigable waterway and marine traffic requires frequent bridge openings. These openings increase the likelihood of mechanical malfunctions, which have in the past caused the bridge to remain in the open position for long periods of time, resulting in train delays. Due to these types of issues, older swing span bridges are now being replaced by other types of moveable bridges such as vertical lift and single-span bascule bridges.

The Hackensack River is a navigable waterway governed by the U.S. Coast Guard. The existing Portal Bridge has only 23 feet of clearance between mean high water (MHW) and the lowest steel elevation of the bridge. As a result, marine traffic along this segment of the Hackensack River requires the frequent opening of the Portal Bridge and disruption of Northeast Corridor train traffic. This conflict is currently managed by restricting the times during which the bridge is permitted to open. Nonetheless, the lengthy time that is required to open and close the Portal Bridge for marine traffic continues to be disruptive to efficient rail operations.

To avoid disruption to passenger service, AMTRAK is forced to conduct bridge maintenance and inspection during increasingly limited time periods, such as at night and on weekends. As traffic along the Northeast Corridor increases, fewer suitable time periods for maintenance and inspection will be available.

III. Alternatives to be Considered

The EIS will consider a No Action Alternative and a number of different build alternatives to improve the existing Northeast Corridor rail crossing over the Hackensack River. These alternatives will consider retention or removal of the existing Portal Bridge and construction of one or two new bridges. Alternatives retaining the Portal Bridge will, in some cases, include the modification of certain characteristics of the existing bridge—such as height and operation (e.g., a moveable structure versus a fixed structure). For a new bridge, alternatives proposed will vary in bridge height, type (moveable/fixed), and number of tracks to be constructed between Swift Interlocking and Secaucus Junction.

Alternatives Retaining the Existing Portal Bridge: These alternatives would retain the existing Portal Bridge and include construction of a new two-track or three-track bridge, either fixed or moveable.

Alternatives Modifying the Existing Portal Bridge: These alternatives would involve physically modifying the existing Portal Bridge (beyond normal maintenance), rehabilitating the structure, and raising it above its existing height. Some of these alternatives would raise the existing bridge so that it could be fixed in a closed position. Other alternatives would raise the bridge to a lesser height and retain its moveable nature. These alternatives would also include a new bridge, either fixed or moveable, with two or three tracks.

Alternatives Removing the Existing Portal Bridge: These alternatives would involve the construction of two new bridges and removal of the existing Portal Bridge. These alternatives would include a mix of bridge height, operation type (moveable or fixed), and alignment along the Hackensack River. Some of these alternatives would include the construction of a new two-or three-track movable bridge with a second new two-track fixed or moveable bridge. Other alternatives in this category would include a new two-track or three-track fixed bridge and a second new two-track fixed bridge.

IV. Probable Effects

The FRA, NJ TRANSIT, and AMTRAK will evaluate both project-specific and cumulative changes to the social, economic and physical environment—including land use and socioeconomic conditions, ecology, water resources, historic and archaeological resources, visual character and aesthetics, contaminated and hazardous materials, transportation, air quality, noise and vibration, environmental justice, and cumulative and secondary effects. The analysis will be undertaken consistent with NEPA, Council on Environmental Quality regulations, Section 106 of the National Historic Preservation Act, FRA guidance, FTA regulations, DOT guidance, and Section 4(f) of the DOT Act, along with other applicable Federal and State regulations.

V. Scoping Process

FRA invites all interested individuals, organizations, and Federal, State, and local agencies to comment on the scope of the EIS. Comments are encouraged on specific social, economic, or environmental issues to be evaluated, and on reasonable alternatives that may be less costly, more cost effective or have fewer environmental impacts while achieving similar transportation objectives.

NJ TRANSIT will be leading the outreach activities during the public scoping process, beginning with the scoping meeting identified under DATES above. Following the public scoping process, public outreach activities will include meetings with the Regional Citizens' Liaison Committee (RCLC) established for the study, as well as meetings with interested parties or small groups. Those wishing to participate in the RCLC may do so by registering on the project Web site at http://www.portalbridgenec.com. As part of the study process, the project Web site listed will be periodically updated to reflect the project's status. In addition, newsletters will be circulated to a broad constituency to ensure people are informed about the project. Additional opportunities for public participation will be announced through mailings, notices, advertisements and press releases.

Issued in Washington, DC, on December 5, 2006.
Mark E. Yachmetz,
Associate Administrator for Railroad Development.

[FR Doc. E6-21015 Filed 12-11-06; 8:45 am]

BILLING CODE 4910-06-P